ENVIRONMENTAL PROTECTION AGENCY

40 CFR Part 81

[EPA-HQ-OAR-2014-0563; FRL-9916-19-OAR]

Notice of Final Action on Petition From Sierra Club To Redesignate Newly Violating Ozone Areas as Nonattainment

AGENCY: Environmental Protection Agency (EPA).

ACTION: Notice of Action Denying Petition.

SUMMARY: The U.S. Environmental Protection Agency (EPA) is providing notice that it has responded to a petition from the Sierra Club that requests the EPA to redesignate as nonattainment 57 areas with 2012 design values violating the 2008 national ambient air quality standards (NAAQS) for ozone. The petition also requests that the EPA set specific boundaries for the areas. The EPA Administrator denied the petition in letters to the signatories of the petition dated August 14, 2014. The letters explain the EPA's reasons for the denial and are available in the rulemaking docket.

DATES: The EPA's response to this petition was signed on August 15, 2014. Any petitions for review of the final letters denying the petition to redesignate 57 areas to nonattainment for the 2008 ozone NAAQS must be filed in the Court of Appeals for the District of Columbia Circuit on or before November 4, 2014.

FOR FURTHER INFORMATION CONTACT: Carla Oldham, Office of Air Quality Planning and Standards (C539-04), U.S. Environmental Protection Agency, Research Triangle Park, NC 27711; telephone number: (919) 541-3347; email address: oldham.carla@epa.gov.

SUPPLEMENTARY INFORMATION:

I. How can I get copies of this document and other related information?

This Federal Register notice, the petition, and the letters denying the petition are available in the docket that the EPA has established under Docket ID No. EPA-HQ-OAR-2014-0563. The table below identifies the petitioner, the date of the petition, the document identification number for the petition, the date of the EPA's response, and the document identification number for the EPA's response.

Petitioner | Date of petition to EPA | Petition: Document ID No. in docket | Date of EPA response | EPA response: Document ID No. in docket
Sierra Club | 11/14/2013 | −0002 | 8/14/2014 | −0003 and −0004
Note: The document ID numbers listed in the table are in the form of “EPA-HQ-OAR-2014-0563-XXXX.”

All documents in the docket are listed on the http://www.regulations.gov Web site. Although listed in the index, some information may not be publicly available, i.e., confidential business information or other information whose disclosure is restricted by statute. Certain other material, such as copyrighted material, is not placed on the Internet and will be publicly available only in hard copy form. Publicly available docket materials are available either electronically through http://www.regulations.gov or in hard copy at the EPA Docket Center, Docket ID No. EPA-HQ-OAR-2014-0563, EPA William Jefferson Clinton West Building, Room 3334, 1301 Constitution Ave. NW., Washington, DC. The Public Reading Room is open from 8:30 a.m. to 4:30 p.m., Monday through Friday, excluding legal holidays. The telephone number for the Public Reading Room is (202) 566-1744, and the telephone number for the EPA Docket Center is (202) 566-1742.

II. Judicial Review

Section 307(b)(1) of the Clean Air Act indicates which Federal Courts of Appeal have venue for petitions of review of final actions by the EPA. This section provides, in part, that petitions for review must be filed in the Court of Appeals for the District of Columbia Circuit: (i) when the agency action consists of “nationally applicable regulations promulgated, or final actions taken, by the Administrator,” or (ii) when such action is locally or regionally applicable, if “such action is based on a determination of nationwide scope or effect and if in taking such action the Administrator finds and publishes that such action is based on such a determination.”

The EPA has determined that its action denying the petition to redesignate 57 areas to nonattainment for the 2008 ozone NAAQS is of nationwide scope and effect because this action addresses areas across the country. This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this final action extends to numerous judicial circuits across the country. In these circumstances, section 307(b)(1) and its legislative history calls for the Administrator to find the rule to be of “nationwide scope or effect” and for venue to be in the DC Circuit.

Thus, any petitions for review of the final letters denying the petition to redesignate 57 areas to nonattainment for the 2008 ozone NAAQS must be filed in the Court of Appeals for the District of Columbia Circuit on or before November 4, 2014.

Dated: August 15, 2014.
Janet McCabe,
Acting Assistant Administrator, Office of Air and Radiation.

[FR Doc. 2014-21075 Filed 9-4-14; 8:45 am]

BILLING CODE 6560-50-P